DEPARTMENT OF LABOR

Occupational Safety and Health Administration

[Docket No. OSHA-2017-0004]

Maritime Advisory Committee for Occupational Safety and Health (MACOSH): Request for Nominations

AGENCY: Occupational Safety and Health Administration (OSHA), Labor.

ACTION: Request for nominations.

SUMMARY: OSHA invites interested persons to submit nominations for membership on the Maritime Advisory Committee for Occupational Safety and Health.

DATES: You must submit nominations for MACOSH membership (postmarked, sent, transmitted, or received) by December 10, 2018.

ADDRESSES: You may submit nominations and supporting materials by one of the following methods:

Electronically: You may submit nominations, including attachments, electronically at: http://www.regulations.gov, the Federal eRulemaking Portal. Follow the online instructions for submitting nominations.

Facsimile: If your nomination and supporting materials, including attachments, do not exceed 10 pages, you may fax them to the OSHA Docket Office at (202) 693-1648.

Regular mail, express mail, hand delivery, and messenger or courier service: You may submit nominations and supporting materials to the OSHA Docket Office, Docket No. OSHA-2015-0014, Occupational Safety and Health Administration, U.S. Department of Labor, Room N-3653, 200 Constitution Avenue NW, Washington, DC 20210. Deliveries (express mail, hand (courier) delivery, and messenger service) are accepted during the Docket Office's normal business hours, 10:00 a.m. to 3:00 p.m., ET.

Instructions: All submissions must include the agency name and docket number for this Federal Register notice (Docket No. OSHA-2017-0004). Because of security-related procedures, submissions by regular mail may result in a significant delay in receipt. Please contact the OSHA Docket Office for information about security procedures for making submissions by express mail, hand (courier) delivery, and messenger service.

OSHA will post submissions in response to this Federal Register notice, including personal information provided, without change at http://www.regulations.gov. Therefore, OSHA cautions interested parties about submitting personal information such as Social Security numbers and birthdates.

Docket: To read or download submissions in response to this Federal Register notice, go to Docket No. OSHA-2017-0004 at http://www.regulations.gov. All documents in the docket are available in the http://www.regulations.gov index; however, some documents (e.g., copyrighted material) are not publicly available to read or download through that web page. All submissions, including copyrighted material, are available for inspection and copying at the OSHA Docket Office.

FOR FURTHER INFORMATION CONTACT:

For press inquiries: Mr. Frank Meilinger, Director, OSHA Office of Communications, U.S. Department of Labor; telephone: (202) 693-1999; email: meilinger.francis2@dol.gov.

For general information about MACOSH: Ms. Amy Wangdahl, Director, Office of Maritime and Agriculture, OSHA, U.S. Department of Labor; telephone: (202) 693-2066; email wangdahl.amy@dol.gov.

For copies of this Federal Register notice: Electronic copies of this Federal Register notice are available at http://www.regulations.gov. This notice, as well as news releases and other relevant information, are also available at OSHA's web page at: www.osha.gov.

SUPPLEMENTARY INFORMATION: The Secretary of Labor invites interested persons to submit nominations for membership on MACOSH.

I. Background

The Secretary of Labor renewed the MACOSH charter for two years on January 23, 2017. MACOSH is a Federal Advisory Committee established under the authority of the Occupational Safety and Health Act (OSH Act) (29 U.S.C. 651 et seq.), the Federal Advisory Committee Act (FACA) 5 U.S.C. App. 2, and regulations issued pursuant to those statutes (29 CFR part 1912, 41 CFR part 102-3). The Committee advises the Secretary of Labor on matters relating to occupational safety and health programs, enforcement, new initiatives, and standards for the maritime industries of the United States, which include longshoring, marine terminals, commercial fishing, and shipyard employment. OSHA invites persons interested in serving on MACOSH to submit their names for consideration for Committee membership.

MACOSH reports to the Secretary of Labor through OSHA, and functions solely as an advisory body. MACOSH provides recommendations and advice to the Department of Labor and OSHA on various policy issues pertaining to safe and healthful employment in the maritime industries. The Secretary of Labor consults with MACOSH on various subjects, including: Ways to increase the effectiveness of safety and health standards that apply to the maritime industries, injury and illness prevention, the use of stakeholder partnerships to improve training and outreach initiatives, and ways to increase the national dialogue on occupational safety and health. In addition, MACOSH provides advice on enforcement initiatives that will improve the working conditions and the safety and health of workers in the maritime industries. The Committee meets approximately two times per year. Committee members serve without compensation, but OSHA provides travel and per diem expenses. Members serve a two-year term, which begins from the date of appointment by the Secretary of Labor. The term of the most recent MACOSH membership expired on January 20, 2018.

II. MACOSH Membership

MACOSH consists of not more than 15 members appointed by the Secretary of Labor. The Agency seeks committed members who have a strong interest in the safety and health of workers in the maritime industries. The U.S. Department of Labor is committed to equal opportunity in the workplace. The Secretary of Labor will appoint members to create a broad-based, balanced, and diverse committee reflecting the shipyard, longshoring, and commercial fishing industries, and representing affected interests such as employers, employees, safety and health professional organizations, government organizations with interests or activities related to the maritime industry, academia, and the public.

Nominations of new members, or resubmissions of former members, will be accepted in all categories of membership. Interested persons may nominate themselves or submit the name of another person whom they believe to be interested in and qualified to serve on MACOSH. Nominations may also be submitted by organizations from one of the categories listed above (e.g., employer, employee, public, safety and health professional organization, state safety and health agency, academia).

III. Submission Requirements

Nominations must include the following information:

(1) Nominee's contact information and current employment or position;

(2) Nominee's resume or curriculum vitae, including prior membership on MACOSH and other relevant organizations and associations;

(3) Maritime industry interest (e.g., employer, employee, public, safety and health professional organization, state safety and health agency, academia) that the nominee is qualified to represent;

(4) A summary of the background, experience, and qualifications that addresses the nominee's suitability for membership; and

(5) A statement that the nominee is aware of the nomination, is willing to regularly attend and participate in MACOSH meetings, and has no conflicts of interest that would preclude membership on MACOSH.

OSHA will conduct a basic background check of candidates before their appointment to MACOSH. The background check will involve accessing publicly available, internet-based sources.

IV. Member Selection

The Secretary of Labor will select MACOSH members based on their experience, knowledge, and competence in the field of occupational safety and health, particularly in the maritime industries. Information received through this nomination process, and other relevant sources of information, will assist the Secretary of Labor in appointing members to MACOSH. In selecting MACOSH members, the Secretary of Labor will consider individuals nominated in response to this Federal Register notice, as well as other qualified individuals. OSHA will publish a list of MACOSH members in the Federal Register.

Authority and Signature

Loren Sweatt, Deputy Assistant Secretary of Labor for Occupational Safety and Health, authorized the preparation of this notice under the authority granted by 29 U.S.C. 655(b)(1) and 656(b), 5 U.S.C. App. 2, Secretary of Labor's Order No. 1-2012 (77 FR 3912), and 29 CFR part 1912.

Signed at Washington, DC, on October 19, 2018.
Loren Sweatt,
Deputy Assistant Secretary of Labor for Occupational Safety and Health.

[FR Doc. 2018-23423 Filed 10-25-18; 8:45 am]

BILLING CODE 4510-26-P